DEPARTMENT OF HEALTH AND HUMAN SERVICES

Administration for Children and Families

[Program Announcement No. ACF/ACYF/CB FY 2000-01]

Announcement of the Availability of Financial Assistance and Request for Applications To Support Adoption Opportunities Demonstration Projects, Child Abuse and Neglect Discretionary Activities, Child Welfare Training Projects, and Abandoned Infants Assistance Awards

AGENCY: Children's Bureau, Administration on Children, Youth and Families, ACF, DHHS.

ACTION: Notice.

Statutory Authority Covering Programs in This Announcement With Catalog of Federal Domestic Assistance (CFDA) Numbers

Adoption Opportunities: Title II of the Child Abuse Prevention and Treatment and Adoption Reform Act of 1978, as amended, (42 U.S.C. 5111) CFDA: 93.652.

Child Welfare Training: Section 426 of title IV-B, Subpart 1, of the Social Security Act, as amended, (42 U.S.C. 626) CFDA: 93.648.

Promoting Safe and Stable Families: Section 430 of title IV-B, Subpart 2, of the Social Security Act, as amended, (42 U.S.C. 629) CFDA: 93.556.

Child Abuse and Neglect: Section 104 of the Child Abuse Prevention and Treatment Act, as amended (42 U.S.C. 5101 et seq.) CFDA: 93.670.

Abandoned Infants: Section 101 of the Abandoned Infants Assistance Act, as amended (42 U.S.C. 670 note) CFDA: 93.551.

SUMMARY: The Children's Bureau (CB) within the Administration on Children, Youth and Families (ACYF), Administration for Children and Families (ACF) announces the availability of fiscal year (FY) 2000 funds for competing new Aodption Opportunities Program, Child Abuse and Neglect Discretionary Activities, Child Welfare Training Projects, and Abandoned Infants Assistance projects. Funds from the Adoption Opportunities Program are designed to provide support for demonstration projects that facilitate the elimination of barriers to adoption and provide permanent loving homes for children who would benefit from adoption, particularly children with special needs. Discretionary funds from the Promoting Safe and Stable Families Program support research, training and technical assistance and evaluation efforts to preserve families. Funds from the Child Abuse Prevention and Treatment Act support knowledge-building research and service demonstration projects designed to assist and enhance national, State and community efforts to prevent, assess, identify and treat child abuse and neglect. Funds from section 101 of the Abandoned Infants Assistance Act, as amended, (42 U.S.C. 670 note) are to establish a program of comprehensive service demonstration projects to prevent the abandonment in hospitals of infants and young children, particularly those exposed to a dangerous drug and those with the human immunodeficiency virus or who have been perinatally exposed to the virus. The Child Welfare Training Program funds support discretionary awards to public or other non-profit institutions of higher learning for special projects for training personnel for work in the field of child welfare, including traineeships with such stipends and allowances as may be permitted by the Department of health and Human Services (DHHS).

DATES: The closing date for receipt of applications is 4:30 P.M. EDT June 12, 2000.

Note: Applications should be submitted to the ACYF Operations Center at: 1815 N. Fort Myer Drive, Suite 300, Arlington, Virginia 22209. However, prior to preparing and submitting an application, in order to satisfactorily compete under this announcement it will be necessary for potential applicants to read the full announcement which is available through the addresses listed below.

ADDRESSES: Applications, including all necessary forms can be downloaded from the Children's Bureau web site at www.acf.dhhs.gov/programs/cb. Hard copies of the application may be obtained by writing or calling the Operations Center (see phone number and address below) or sending an email to cb@lcgnet.com.

FOR FURTHER INFORMATION CONTACT: ACYF Operations Center at: 1815 N. Fort Myer Drive, Suite 300, Arlington, Virginia 22209 or 1-800-351-2293.

SUPPLEMENTARY INFORMATION:

Priority Areas

2000A. Adoption Opportunities

2000A.1 Implementation of Collaborative Planning To Increase Inter-Jurisdictional Adoptions

Eligible Applicants: Eligibility is limited to the five grantees currently funded under Fiscal Year (FY) 1999 priority 99A.4 (Program Announcement No. ACF/ACYF/CB-99-05): the Central Council of Tlingit and Haida Tribes of Alaska, Juneau, AK; the Colorado Department of Human Services, Denver, CO; the Independent Adoption Center, Pleasant Hill, CA; the South Carolina Department of Social Services, Columbia, SC and the Texas Department of Protective and Regulatory Services, Austin, TX.

Project Duration: The projects will be awarded for a project period of 36 months. The initial grant award will be for a 12-month budget period. The award of continuation funding beyond each 12-month budget period will be subject to the availability of funds, satisfactory progress on the part to the grantee, and a determination that continued funding would be in the best interest of the government.

Federal Share of Project Costs: The maximum Federal share of the project is $250,000 per budget year.

Matching Requirements: The applicant must provide at least 10 percent of the total approved cost of the project. The total approved cost is the sum of the ACF share and non-Federal share. Therefore, a project requesting $250,000 of Federal funds must include a match of at least $27,778 (10 percent of the total project cost of $277,778). Cash or in-kind contributions may meet the non-Federal share, although applicants are encouraged to meet their match through cash contributions. If approved for funding, grantees will be held accountable for the commitment of non-Federal resources and failure to provide the required amount will result in a disallowance of unmatched Federal funds.

Anticipated Number of Projects to be Funded: It is anticipated that 5 projects will be funded.

2000A.2 Operation of a National Adoption Information Exchange System

Eligible Applicants: Any national, State, or local government entity, public or private non-profit agency, organization or university with demonstrated expertise in adoption and the ability to maintain a National Adoption Information Exchange System.

Project Duration: The operation of a National Adoption Information Exchange system will be awarded for a project period of 36 months. The initial grant award will be for a 12-month budget period. The award of continuation funding beyond each 12-month budget period will be subject to the availability to funds, satisfactory progress on the part to the grantee, the status of the Internet-based photo listing system, and a determination that continued funding would be in the best interest of the government.

Federal Share of Project Costs: The maximum Federal share of the project is $500,000 per budget year.

Matching or Cost Sharing Requirement: The grantee must provide at least 10 percent of the total approved cost of the project. The total approved cost is the sum of the Federal share and the non-Federal share. Therefore, a project requesting $500,000 per budget period must include a match of at least $55,556 per budget period. The non-Federal share may be cash or in-kind contributions, although applicants are encouraged to meet their match requirements through cash contributions.

Anticipated Number of Projects to be Funded: It is anticipated that 1 project will be funded.

2000A.3 Innovations Increasing Adoptive Placements of Hispanic/Latino Children

Eligible Applicants: States, local government entities, public or private non-profit licensed child welfare or adoption agencies and adoption exchanges.

Project Duration: The projects will be awarded for a project period of 36 months. The initial grant award will be for a 12-month budget period. The award of continuation funding beyond each 12-month budget period will be subject to the availability of funds, satisfactory progress on the part to the grantee, and a determination that continued funding would be in the best interest of the government.

Federal Share of Project Costs: The maximum Federal share of the project is not to exceed $250,000 per 12-month budget period.

Matching or Cost Sharing Requirement: Grantees must provide at least 10 percent of the total cost of the project. The total approved cost of the project is the sum of the ACF share and the non-Federal share. Therefore, a project requesting $250,000 in Federal funds (based on an award of $250,000 per budget period) must include a match of at least $27,778 (10 percent of the total project cost). The non-Federal share may be cash or in-kind contributions, although applicants are encouraged to meet their match requirements through cash contributions.

Anticipated Number of Projects to be Funded: It is anticipated that up to ten projects will be funded.

2000A.4 Leadership Development: Parent Support Groups

Eligible Applicants: Private non-profit organizations or universities (including university affiliated programs) with expertise in child welfare and the ability to create and establish a network of parent support groups for (1) foster parents (2) adoptive parents of children with developmental disabilities and/or special needs, and/or (3) relatives caring for kin in foster care. The Children's Bureau anticipates making three awards, one to focus on each target group. That is, one to develop a network for foster parents; one to develop a network for adoptive parents of children with developmental disabilities and/or special needs; and one to develop a network for relatives caring for kin in foster care, pending successful review. Eligible applicants must have the ability to (1) provide (or broker the provision of) training and technical assistance for parent groups and (2) to solicit, review, and fund a limited number of mini-grants directly to parent groups.

Project Duration: The projects will be awarded for a project period of 36 months. The initial grant award will be for a 12-month budget period. The award of continuation funding beyond each 12-month budget period will be subject to the availability of funds, satisfactory progress on the part to the grantee, and a determination that continued funding would be in the best interest of the government.]

Federal Share of Project Costs: The maximum Federal share of the project is $300,000 per budget year per grantee.

Matching or Cost Sharing Requirement: The grantee must provide at least 10 percent of the total cost of the project. The total approved cost is the sum of the Federal share and the non-Federal share. A project requesting $300,000 per budget period must include a match of at least $33,333 per budget period. The non-Federal share may be in cash or in-kind contributions, although applicants are encouraged to meet their match requirement through cash contributions.

Anticipated Number of Projects to be Funded: It is anticipated that three projects will be funded—one for each target population ((1) foster parents, or (2) adoptive parents of children with developmental disabilities and/or special needs, or (3) relatives caring for kin in foster care).

2000A.5 Innovations To Increase Permanency Options for Children Using Kinship Care

Eligible Applicants: Eligibility is limited to States, local social services agencies and federally recognized Indian Tribes and Indian Tribal Organizations. The Children's Bureau encourages partnerships with private non-profit agencies, universities, and foundations.

Project Duration: The projects will be awarded for a project period of 36 months. The initial grant award will be for a 12-month budget period. The award of continuation funding beyond each 12-month budget period will be subject to the availability of funds, satisfactory progress on the part to the grantee, and a determination that continued funding would be in the best interest of the government.

Federal Share of Project Costs: The maximum Federal share of the project is $300,000 per budget year.

Matching or Cost Sharing Requirement: The grantee must provide at least 10 percent of the total cost of the project. The total approved cost is the sum of the Federal share and the non-budget period must include a match of at least $33,000 per budget period. The non-Federal share may be in cash or in-kind contributions, although applicants are encouraged to meet their match requirements through cash contributions.

Anticipated Number of Project to be Funded: It is anticipated that 5 projects will be funded.

2000A.6 Knowledge Development for Concurrent Planning

Eligible Applicants: State or local governments alone or in collaboration with Federally recognized tribes and tribal organizations or with private non-profit licensed child placement or adoption agencies with expertise in permanency planning.

Project Duration: The projects will be awarded for a project period of 36 months. The initial grant award will be for a 12-month budget period. The award of continuation funding beyond each 12-month budget period will be subject to the availability of funds, satisfactory progress on the part to the grantee, and a determination that continued funding would be in the best interest of the government.

Federal Share of Project Cost: The maximum Federal share of the project is $300,000 per budget year.

Matching or Cost Sharing Requirement: The grantee must provide at least 10 percent of the total approved cost of the project. The total approved cost is the sum of the ACYF share and non-Federal share. A project requesting $300,000 per budget period must include a match of at least $33,333 per budget period. The non-Federal share may be in cash or in-kind contributions, although applicants are encouraged to meet their match requirements through cash contributions.

Anticipated Number of Projects to be Funded: It is anticipated that five projects will be funded.

2000A.7 Collaborations Between Child Welfare Agencies and Court Systems to Facilitate Timely Adoptions

Eligible Applicants: State and local government or nonprofit organizations engaged in adoption services or child welfare activities, courts, and federally recognized Indian Tribes and Indian Tribal Organizations. Current grantees receiving funds from the Children's Bureau for collaborative efforts for this purpose are not eligible.

Project Duration: The projects will be awarded for a project period of 36 months. The initial grant award will be for a 12-month budget period. The award of continuation funding beyond each 12-month budget period will be subject to the availability of funds, satisfactory progress on the part to the grantee, and a determination that continued funding would be in the best interest of the government.

Federal Share of Project Costs: The maximum Federal share of the project is $200,000 per budget year.

Matching or Cost Sharing Requirement: The grantee must provide at least 10 percent of the total cost of the project. The total approved cost is the sum of the ACF share and the non-Federal share. Therefore, a project requesting $200,000 in Federal funds (based on an award of $200,000 per budget period) must include a match of at least $22,222 (10 percent of the total project cost). The non-Federal share may be cash or in-kind contributions, although applicants are encouraged to meet their match requirements through cash contributions.

Anticipated Number of Projects to be Funded: It is anticipated that up to 10 projects will be funded.

2000A.8 Innovative Approaches To Expediting Permanence and Implementing ASFA

Eligible Applicants: States and local government entities, public or private non-profit licensed child welfare or adoption agencies, local social services agencies and Federally recognized Indian Tribes and Indian Tribal Organizations. The Children's Bureau encourages partnerships with private non-profit agencies, universities, and foundations, if appropriate.

Project Duration: The projects will be awarded for a period of 36 months. The initial grant award will be for a 12-month budget period. The award of continuation funding beyond each 12-month budget period will be subject to the availability of funds, satisfactory progress on the part to the grantee, and a determination that continued funding would be in the best interest of the government.

Federal Share of Project Costs: The maximum Federal share of the project is $300,000 per budget year.

Matching or Cost Sharing Requirement: The grantee must provide at least 10 percent of the total cost of the project. The total approved cost is the sum of the ACYF share and non-Federal share. A project requesting $300,000 per budget period must include a match of at least $33,333 per budget period. The non-Federal share may be cash or in-kind contributions, although applicants are encouraged to meet their match requirements through cash contributions.

Anticipated Number of Projects to be Funded: It is anticipated that up to ten projects will be funded.

2000B: Child Abuse and Neglect Discretionary Activities

2000B.1 Consortium for Longitudinal Studies of Child Maltreatment Projects (LONGSCAN)

Eligible Applicants: Eligibility is limited to current grantee and subgrantee members of the Consortium for Longitudinal Studies: The University of North Carolina, Chapel Hill; San Diego State University Foundation, San Diego; the Juvenile Protective Association, Chicago; the Department of Social and Health Services, Olympia, Washington; and the University of Maryland at Baltimore.

Project Duration: The projects will be awarded for a project period of 60 months. The initial grant award will be for a 12-month budget period. The award of continuation funding beyond each 12-month budget period will be subject to the availability of funds, satisfactory progress on the part to the grantee, and a determination that continued funding would be in the best interest of the government.

Federal Share of Project Costs: The maximum Federal share of each of the five Satellite Sites is not to exceed $250,000 per 12-month budget period. The maximum Federal share of the coordinating center is not to exceed $500,000 per 12-month budget period.

Matching Requirements: There is no matching requirement.

Anticipated Number of Projects to be Funded: It is anticipated that one Coordinating Center and five Satellite Sites will be funded up to the maximum funding level.

2000B.2 National Data Archive for Child Abuse and Neglect

Eligible Applicants: Public or private nonprofit agencies, organizations, and institutions of higher learning.

Project Duration: The projects will be awarded for a project period of 60 months. The initial grant award will be for a 12-month budget period. The award of continuation funding beyond each 12-month budget period will be subject to availability of funds, satisfactory progress on the part to the grantee, and a determination that continued funding would be in the best interest of the government.

Federal Share of Project Costs: The maximum Federal share of the project is not to exceed $500,000 per 12-month budget period.

Matching Requirements: There is no matching requirement

Anticipated Number of Projects to be Funded: It is anticipated that one project will be funded.

2000B.3 University-Based Doctoral Candidates in Human Services, Medical, or Law Student and Faculty Fellowships for Investigator-Initiated Research in Child Abuse and Neglect

Eligible Applicants: Institutions of higher learning, including law schools and medical schools, teaching hospitals on behalf of qualified doctoral candidates in human service disciplines, law students, medical students, residents (medical, surgical, pediatric, or others), house officers (medical), or fellows (medical) enrolled in the institution and faculty employed by the institution. To be eligible to administer such a grant, the institution must be fully accredited by one of the regional institutional accrediting commissions recognized by the U.S. Secretary of Education and the Council on Post-Secretary Accreditation, or, as appropriate, the Association for American Law Schools or the American Bar Association; the Accreditation Council for Graduate Medical Education, American Association of Medical Colleges, or the Liaison Committee for Medical Education, as applicable. While an individual is considered to be the beneficiary of the grant support, awards will be made only to eligible institutions on behalf of their qualified candidates.

Project Duration: The length of the projects may not exceed 17 months.

Federal Share of the Project costs: The maximum Federal share of the project is not to exceed $100,000 per university or institution, at $18,750 per student with a maximum of four student-candidates and $25,000 for the faculty candidate.

Matching Requirement: There is no matching requirement.

Anticipated Number of Projects to be Funded: It is anticipated that up to five sites will be funded.

2000B.4 Pilot Test Sites for a Child Abuse and Neglect Research Data Collection Instrument

Eligible Applicants: Public or private nonprofit agencies, organizations, and institutions of higher learning, alone or in partnerships. If partnerships are created, one agency must be identified as the applicant organization and will have legal responsibility for the grant.

Project Duration: The length of the project must not exceed 17 months.

Federal Share of Project Costs: The maximum Federal share of each site is $50,000.

Matching Requirements: There is no matching requirement.

Anticipated Number of Projects to be Funded: It is anticipated that up to five sites will be funded.

2000B.5 National Network of Mutual Support/Self-Help Programs in Partnership With Communities

Eligible Applicants: Public or private nonprofit agencies or organizations who have the capacity to operate a national organization as well as assist in the creation of local support groups.

Project Duration: The projects will be awarded for a project period of 48 months. The initial grant award will be for a 12-month budget period. The award of continuation funding beyond each 12-month budget period will be subject to the availability of funds, satisfactory progress on the part to the grantee, and a determination that continued funding would be in the best interest of the government.

Federal Share of Project Costs: The maximum Federal share of the project is $500,000 per budget year.

Matching or Cost Sharing Requirement: The grantee must provide at least 10% of the total cost of the project. The total approved cost is the sum of the Federal share and the non-Federal share. A project requesting $500,000 per budget period must include a match of at least $55,555 per budget period. The non-federal share may be in cash or in-kind contributions, although applicants are encouraged to meet their match requirement through cash contributions.

Anticipated Number of Projects to be Funded: It is anticipated that one project will be funded.

2000C: Child Welfare Training Discretionary Grants

2000C.1 Training of Child Welfare Practitioners To Work Effectively With Youth Transitioning Out of Foster Care Through the Federal Independent Living Program

Eligible Applicants: Public or non-profit institutions of higher education with accredited social work education programs, or other accredited bachelor or graduate level programs leading to a degree relevant to work in child welfare.

Project Duration: The projects will be awarded for a project period of 36 months. The initial grant award will be for a 12-month budget period. The award of continuation funding beyond each 12-month budget period will be subject to the availability of funds, satisfactory progress on the part to the grantee, and a determination that continued funding would be in the best interest of the government.

Federal Share of Project Costs: The maximum Federal share of the project is $200,000 per budget year.

Matching or Cost Sharing Requirement: The grantee must provide at least 25 percent of the total approved cost of the project. The total approved cost is the sum of the Federal share and the non-Federal share. Therefore, a project requesting $200,000 per budget period must include a match of at least $66,667 per budget period. The non-Federal share may be cash or in-kind contributions, although applicants are encouraged to meet their match requirements through cash contributions. Because this is a training grant, indirect costs for these projects shall not exceed 8 percent. Funds from this grant cannot be used to match title IV-E training funds.

Anticipated Number of Projects to be Funded: It is anticipated that approximately ten projects will be funded.

2000C.2 Training for Managers and Supervisors To Enhance Their Capability To Understand and To Implement the Adoption and Safe Families Act of 1997

Eligible Applicants: Public or non-profit institutions of higher education with accredited social work education programs, or other accredited bachelor or graduate level programs leading to a degree relevant to work in child welfare.

Project Duration: The length of the project may not exceed 36 months. The award of continuation funding beyond each 12-month budget period will be subject to the availability of funds, satisfactory progress on the part to the grantee, and a determination that continued funding would be in the best interest of the government.

Federal Share of Project Costs: The maximum Federal share of the project is $200,000.

Matching or Cost Sharing Requirement: The grantee must provide at least 25 percent of the total approved cost of the project. The total approved cost is the sum of the Federal share and the non-Federal share. Therefore, a project requesting $200,000 per budget period must include a match of at least $66,667 per budget period. The non-Federal share may be cash or in-kind contributions, although applicants are encouraged to meet their match requirements through cash contributions. Because this is a training grant, indirect costs for these projects shall not exceed 8 percent. Funds from this grant cannot be used to match the title IV-E training funds. If approved for funding, grantees will be held accountable for the commitment of non-Federal resources and failure to provide the required amount will result in a disallowance of unmatched Federal funds.

Anticipated Number of Projects to be Funded: It is anticipated that up to ten projects will be funded.

2000C.3 Training of Child Welfare Agency Supervisors

Eligible Applicants: Public or non-profit institutions of higher education with accredited social work education programs, or other accredited bachelor or graduate level programs leading to a degree relevant to work in child welfare.

Project Duration: The projects will be awarded for a project period of 36 months. The initial grant award will be for a 12-month budget period. The award of continuation funding beyond each 12-month budget period will be subject to the availability of funds, satisfactory progress on the part of the grantee, and a determination that continued funding would be in the best interest of the government.

Federal Share of Project Costs: The maximum Federal share is not to exceed $200,000 per 12-month budget period.

Matching or Cost Sharing Requirement: The grantee must provide at least 25 percent of the total approved cost of the project. The total approved cost is the sum of the Federal share and the non-Federal share. Therefore, a project requesting $200,000 per budget period must include a match of at least $66,667 per budget period. The non-Federal share may be case or in-kind contributions, although applicants are encouraged to meet their match requirements through cash contributions. Because this is a training grant, indirect costs for their projects shall not exceed 8 percent. Funds from this grant cannot be used to match title IV-E training funds. If approved for funding, grantees will be held accountable for the commitment of non-Federal resources and failure to provide the required amount will result in a disallowable of unmatched Federal funds.

Anticipated Number of Projects to be Funded: It is anticipated that a total of approximately five projects will be funded.

2000C.4 Professional Education for Current and Prospective Public Child Welfare

Practitioners Leading to Bachelor of Social Work (BSW) Degrees

Eligible Applicants: Public or non-profit institutions of higher education with accredited social work education programs.

Project Duration: The projects will be awarded for a project period of 36 months. The initial grant award will be for a 12-month budget period. The award of continuation funding beyond each 12-month budget period will be subject to the availability of funds, satisfactory progress on the part to the grantee, and a determination that continued funding would be in the best interest of the government.

Federal Share of Project Costs: The maximum Federal share is not to exceed $75,000 for the 12-month budget period. A traineeship must not exceed $7,500 per student per budget year. A minimum of three-fourths of the total project funds must be used for traineeships. The subsequent year funding of the project will depend on the availability of funds.

Matching or Cost Sharing Requirement: No matching funds are required for the portion of the budget which pays for traineeships. However, grantees must provide at least 25 percent of the total cost of grant activities other than traineeships. The total approved cost of these activities is the sum of the ACYF share and the non-Federal share. The non-Federal share may be met by cash or in-kind contributions, although applicants are encouraged to meet their match requirements through a cash contribution. Therefore, a project requesting $18,750 in Federal funds for non-traineeship activities over the 12 month time span of the budget (based on $56,250 traineeship activities per budget period) must include a match of at least $6,250 (25 percent of the total cost for their activities). Because this is a training grant, indirect costs for these projects shall not exceed 8 percent. Funds from this grant cannot be used to match title IV-E training funds.

Anticipated Number of Projects to be Funded: It is anticipated that approximately ten projects will be funded.

2000D: Abandoned Infants Program Service Demonstration Projects

2000D.1 Previous Service Demonstration Projects

Eligible Applicants: Comprehensive service demonstration projects initially funded in FY 1996. Current grantees applying under this priority area should be advised that this is a competitive funding process and that applications approved for funding will be given a new grant number. Existing award activities cannot overlap with the new grant's project period and funds from the currently existing grants cannot be expended for new grant activities.

Project Duration: The projects will be awarded for a project period of 48 months. The initial grant award will be for a 12-month budget period. The award of continuation funding beyond each 12-month budget period will be subject to the availability of funds, satisfactory progress on the part of the grantee, and a determination that continued funding would be in the best interest of the government.

Federal Share Of Project Costs: Grant amounts will vary and range up to $450,000 per budget year for each of the four years.

Matching Requirement: The grantee must provide at least 10 percent of the total approved cost of the project. The total approved cost of the project is the sum of the federal share and the non-Federal share. The non-Federal share may be met by cash or in-kind contributions, although applicants are encouraged to meet their match requirements through cash contributions. Therefore, a project requesting a total of $1,800,000 in Federal funds for all four project years (based on an award of $450,000 per budget year), must include a match of at least $200,000 (10 percent of total approved project costs, i.e., $50,000 per budget period).

Anticipated Number of Projects to be Funded: It is anticipated that three to six projects will be funded under this priority area.

2000D.2 New Start Comprehensive Service Demonstration Projects

Eligible Applicants: Any State, local public or nonprofit agency or organization including accredited colleges and universities. Applicants who can apply under this priority area include: (1) Applicants in jurisdictions in which there currently does not exist a program funded under the Abandonment Infants Assistance Program (call the National Abandoned Infants Assistance Resource Center at 510-643-8390 for a list of current programs); (2) applicants who have previously received funding under the Abandoned Infants Assistance Program but are not currently grantees; and (3) applicants that are currently funded by the Abandoned Infants Assistance Program but are establishing a program in a separate locality serving a different target population, e.g., an agency establishing a program in a different city or establishing a second program in a city with a population over 1,000,000.

Project Duration: The projects will be awarded for a project period of 48 months. The initial grant award will be for a 12-month budget period. The award of continuation funding beyond each 12-month budget period will be subject to the availability of funds, satisfactory progress on the part to the grantee, and a determination that continued funding would be in the best interest of the government.

Federal Share of Project Costs: Grant amounts will vary and range up to $450,000 per budget year for each of the four years.

Matching Requirement: The grantees must provide at least 10 percent of the total approved cost of the project. The total approved cost of the project is the sum of the ACF share and the non-Federal share. The non-Federal share may be met by cash or in-kind contributions, although applicants are encouraged to meet their match requirements through cash contributions. Therefore, a project requesting a total of $1,800,000 in Federal funds for all four project years (based on an award of $450,000 per budget year), must include a match of at least $200,000 (10 percent of total approved project costs, i.e., $50,000 per budget period).

Anticipated Number Of Projects to be Funded: It is anticipated that three to six projects will be funded.

2000D.3 Family Support Services for Grandparents and Other Relatives Providing Care for Children and Substance Abusing and HIV-Positive Women

Eligible Applicants: Public agencies and private, non-profit organizations and institutions of higher education are eligible to apply.

Project Duration: The projects will be awarded for a period of 48 months. The initial grant award will be for a 12-month budget period. The award of continuation funding beyond each 12-month budget period will be subject to the availability of funds, satisfactory progress on the part to the grantee, and a determination that continued funding would be in the best interest of the government.

Federal Share of Project Costs: Grants amounts will not exceed $100,000 per budget year for each of the four years. The dollar amount requested must be fully justified and documented.

Matching Requirement: Grantees must provide at least 10 percent of the total approved cost of the project. The total approved cost of the project is the sum of the federal share and the non-Federal share. The non-Federal share may be met by cash or in-kind contributions, although applicants are encouraged to meet their match requirements through cash contributions. Therefore, a project requesting a total of $400,000 in Federal funds for all four project years (based on an award of $100,000 per budget year), must include a match of at least $44,444 (10 percent of total approved project costs, i.e., $11,111 per budget period).

Anticipated Number of Projects to be Funded: It is anticipated that three projects will be funded.

2000D.4 Recreational Services for Children Affected by HIV/AIDS

Eligible Applicants: Public agencies and private, non-profit organizations and institutions of higher education are eligible to apply.

Project Duration: The projects will be awarded for a project period of 48 months. The initial grant award will be for a 12-month budget period. The award of continuation funding beyond each 12-month budget period will be subject to the availability of funds, satisfactory progress on the part to the grantee, and a determination that continued funding would be in the best interest of the government.

Federal Share of Project Costs: Grant amounts will vary from $50,000 to $100,000 per budget year for each of the four years. The dollar amount requested must be fully justified and documented.

Matching Requirement: Grantees must provide at least 10 percent of the total approved cost of the project. The total approved cost of the project is the sum of the federal share and the non-Federal share. The non-Federal share may be met by cash or in-kind contributions, although applicants are encouraged to meet their matching requirements through cash contributions. Therefore, a project requesting a total of $400,000 in Federal funds for all four project years (based on an award of $100,000 per budget year), must include a match of at least $44,444 (10 percent of total approved project costs, i.e., $11,111 per budget period).

Anticipated Number of Projects to be Funded: It is anticipated that two to three projects will be funded.

Evaluation Criteria

Reviewers will consider the following factors when scoring applications. However, in order to adequately prepare their applications, applicants must refer to the full program announcement for the specific evaluation criteria for each priority area. The points awarded for each criterion vary, depending on the specific priority area.

Criterion 1: Objectives and Need for Assistance

Applications will be judged on the extent to which they clearly specify the purposes and/or strategies of the proposed project and their relationship to legislative authority and child welfare outcomes, as appropriate; the quality of their statement regarding the need for the project; and evidence that the applicant understands current issues and recent developments in the field that may have relevance to the implementation of the project. Applicants must refer to the specific evaluation criteria for each priority area contained in the full Program Announcement in order to adequately prepare their applications. The points awarded for this criterion vary, depending on the specific priority area.

Criterion 2: Results or Benefits Expected

Applications will be judged on the extent to which they define both interim and final results and benefits that they will seek to achieve through implementation of their proposed projects, how these results/benefits will contribute to the overall improvement of the field, and, where appropriate, the innovative aspects of the proposed project. Applicants are encouraged to define clear, objective measures by which their results/benefits will be determined. Applicants must refer to the specific evaluation criteria for each priority area contained in the full Program Announcement in order to adequately prepare their applications. The points awarded for this criterion vary, depending on the specific priority area.

Criterion 3: Approach

Applicants will be judged on the clarity, feasibility, and thoroughness of their description of the approach that they intend to use in implementing proposed projects. The approach sections will be expected to include, as appropriate, information on barriers to implementation and proposed solutions to those barriers; necessary collaborations with other organizations and agencies and their respective roles; evaluation plans; reporting requirements; and staffing plans. Applicants must refer to the specific evaluation criteria for each priority area contained in the full Program Announcement in order to adequately prepare their applications. The points awarded for this criterion vary, depending on the specific priority area.

Criterion 4: Organization Profile

Applicants will be judged on the experience and demonstrated competence of staff who are proposed to implement the project and, as appropriate, the experience of the organization in implementing related projects. Applicants must refer to the specific evaluation criteria for each priority area contained in the full Program Announcement in order to adequately prepare their applications. The points awarded for this criterion vary, depending on the specific priority area.

Criterion 5: Budget and Budget Justification

Applicants will be judged on the adequacy, reasonableness, and completeness of their budget requests to support their proposed projects, including their management plans to control and account for expenditure of project funds. Applicants must refer to the specific evaluation criteria for each priority area contained in the full Program Announcement in order to adequately prepare their applications. The points awarded for this criterion vary, depending on the specific priority area.

Required Notification of the Single Point of Contact

Most portions of this program are covered under Executive Order 12372, Intergovernmental Review of Federal Programs, and 45 CFR part 100, Intergovernmental Review of Department of Health and Human Services Program and Activities. Under the Order, States may design their own process for reviewing and commenting on proposed Federal assistance under covered programs.

All States and Territories except Alabama, Alaska, Colorado, Connecticut, Hawaii, Idaho, Kansas, Louisiana, Massachusetts, Minnesota, Montana, Nebraska, New Jersey, New York, Ohio, Oklahoma, Oregon, Palau, Pennsylvania, South Dakota, Tennessee, Vermont, Virginia, Washington, and American Samoa have elected to participate in the Executive Order process and have established Single Points of Contact (SPOCs). Applicants from these twenty-three jurisdictions need take no action regarding E.O. 12372. Applicants for projects to be administered by Federally-recognized Indian Tribes are also exempt from the requirements of E.O. 12372. Applicants to the Adoption Opportunities program are also exempt from the requirements of E.O. 12372. Otherwise, applicants should contact their SPOCs as soon as possible to alert them of the prospective applications and receive any necessary instructions. Applicants must submit any required material to the SPOCs as soon as possible so that the program office can obtain and review SPOC comments as part of the award process. It is imperative that the applicant submit all required materials, if any, to the SPOC and indicate the date of this submittal (or the date of contact if no submittal is required) on the Standard Form 424, item 16a.

Under 45 CFR 100.8(a)(2), a SPOC has 60 days from the application deadline to comment on proposed new or competing continuation awards.

SPOCs are encouraged to eliminate the submission of routine endorsements as official recommendations.

Additionally, SPOCs are requested to clearly differentiate between mere advisory comments and those official State process recommendations which may trigger the accommodate or explain rule. A list of the Single Points of Contact for each State and Territory can be found on the web site http://www.dhhs.gov/progorg/grantsnet/laws-reg/spoq0695.htm.

Dated: April 7, 2000.
Patricia Montoya,
Commissioner, Administration on Children, Youth and Families.

[FR Doc. 00-9150 Filed 4-12-00; 8:45 am]

BILLING CODE 4184-01-M